SURFACE TRANSPORTATION BOARD

[Docket No. AB 303 (Sub-No. 54X)]

Wisconsin Central Ltd.—Discontinuance of Service Exemption—in Rusk and Price Counties, Wis.

Wisconsin Central Ltd. (WCL) has filed a verified notice of exemption under 49 CFR part 1152 subpart F—Exempt Abandonments and Discontinuances of Service to discontinue service over an approximately 32-mile rail line between milepost 137.00 at Tony in Dewey Township, Rusk County, Wis., and milepost 169.00 at Prentice in the Town of Prentice, Price County, Wis. (the Line). The Line traverses U.S. Postal Service ZIP Codes 54563, 54526, 54530, 54537, 54515, and 54556.

WCL has certified that: (1) No local traffic has moved over the Line for two years; (2) any overhead traffic on the Line can be rerouted over other lines; (3) no formal complaint filed by a user of rail service on the Line (or by a state or local government entity acting on behalf of such user) regarding cessation of service over the Line either is pending with the Surface Transportation Board (Board) or with any U.S. District Court or has been decided in favor of complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ¹ to subsidize continued rail service has been received, this exemption will be effective on February 9, 2020, unless stayed pending reconsideration.² Petitions to stay that do not involve environmental issues must be filed by January 17, 2020, and formal expressions of intent to file an OFA to subsidize continued rail service under 49 CFR 1152.27(c)(2) ³ must be filed by January 21, 2020.⁴ Petitions for reconsideration must be filed by January 30, 2020, with the Surface Transportation Board, 395 E Street SW, Washington, DC 20423-0001.

¹ Persons interested in submitting an OFA to subsidize continued rail service must first file a formal expression of intent to file an offer, indicating the intent to file an OFA for subsidy and demonstrating that they are preliminarily financially responsible. See 49 CFR 1152.27(c)(2)(i).

² WCL supplemented its verified notice on December 23, 2019, which will be considered the filing date for the purpose of calculating the effective date of the exemption.

³ The filing fee for OFAs can be found at 49 CFR 1002.2(f)(25).

⁴ Because this is a discontinuance proceeding and not an abandonment, trail use/rail banking and public use conditions are not appropriate. Because there will be an environmental review during abandonment, this discontinuance does not require environmental review.

A copy of any petition filed with the Board should be sent to WCL's representative, Bradon J. Smith, Fletcher & Sippel LLC, 29 N Wacker Drive, Suite 800, Chicago, IL 60606.

If the verified notice contains false or misleading information, the exemption is void ab initio.

Board decisions and notices are available at www.stb.gov.

Decided: January 6, 2020.
By the Board, Allison C. Davis, Director, Office of Proceedings.
Tammy Lowery,
Clearance Clerk.

[FR Doc. 2020-00227 Filed 1-9-20; 8:45 am]

BILLING CODE 4915-01-P